FEDERAL COMMUNICATIONS COMMISSION

47 CFR Part 15

[ET Docket No. 18-295 and GN Docket No. 17-183; Report No. 3152; FRS 16906]

Petitions for Reconsideration of Action in Proceedings

AGENCY: Federal Communications Commission.

ACTION: Petitions for Reconsideration.

SUMMARY: Petitions for Reconsideration (Petitions) have been filed in the Commission's proceeding by Jeffrey S. Cohen, on behalf of APCO International, Jennifer L. Oberhausen, on behalf of CTIA, Donald J. Evans, on behalf Fixed Wireless Communications Coalition, and Tara L. Preiss, on behalf of Verizon.

DATES: Oppositions to the Petitions must be filed on or before July 29, 2020. Replies to an opposition must be filed on or before August 10, 2020.

ADDRESSES: Federal Communications Commission, 445 12th Street SW, Washington, DC 20554.

FOR FURTHER INFORMATION CONTACT: Nicholas Oros, Office of Engineering and Technology, Policy and Rules Division, (202) 418-0636.

SUPPLEMENTARY INFORMATION: This is a summary of the Commission's document, Report No. 3152, released June 29, 2020. Petitions may be accessed online via the Commission's Electronic Comment Filing System at: http://apps.fcc.gov/ecfs/. The Commission will not send a Congressional Review Act (CRA) submission to Congress or the Government Accountability Office pursuant to the CRA, 5 U.S.C. because no rules are being adopted by the Commission.

Subject: Unlicensed Use of the 6 GHz Band, Expanding Flexible Use in Mid-Band Spectrum Between 3.7 and 24 GHz, FCC 20-51, published 85 FR 31390, May 26, 2020 in GN ET Docket No. 18-295 and GN Docket No. 17-183. This document is being published pursuant to 47 CFR 1.429(e). See also 47 CFR 1.4(b)(1) and 1.429(f), (g).

Number of Petitions Filed: 4.

Federal Communications Commission.
Cecilia Sigmund,
Federal Register Liaison Officer.

[FR Doc. 2020-14711 Filed 7-13-20; 8:45 am]

BILLING CODE 6712-01-P